DEPARTMENT OF THE INTERIOR

National Park Service

[NPS-WASO-NAGPRA-NPS0037597; PPWOCRADN0-PCU00RP14.R50000]

Notice of Intended Disposition: The United States Army Garrison—Hawaii, Pōhakuloa Training Area, Hilo, HI

AGENCY: National Park Service, Interior.

ACTION: Notice.

SUMMARY: In accordance with the Native American Graves Protection and Repatriation Act (NAGPRA), the United States Army Garrison-Hawaii (USAG-HI) Pōhakuloa Training Area (PTA) intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 19, 2024. If no claim for disposition is received by March 20, 2025, the human remains or cultural items in this notice will become unclaimed human remains or cultural items.

ADDRESSES: Dr. Heidi E Miller, USAG-HI PTA, P.O. Box 4607, Hilo, HI 96720, telephone (808) 787-7802, email heidi.e.miller10.civ@army.mil.

SUPPLEMENTARY INFORMATION: This notice is published as part of the National Park Service's administrative responsibilities under NAGPRA. The determinations in this notice are the sole responsibility of the USAG-HI PTA, and additional information on the human remains or cultural items in this notice, including the results of consultation, can be found in the related records. The National Park Service is not responsible for the identifications in this notice.

Abstract of Information Available

Based on the information available, three associated funerary objects, a hōkeo and two ipu gourds, were identified in the Pu‘uanahulu Ahupua‘a, North Kona District, Hawai‘i Island, Hawai‘i. These items were removed from their identified location in August 2022 at the request of NAGPRA Consulting Parties and placed in the curation facility at the USAG-HI PTA.

Determinations

The USAG-HI PTA has determined that:

• The three objects described in this notice are reasonably believed to have been placed intentionally with or near individual human remains at the time of death or later as part of the death rite or ceremony.

• The Native Hawaii Organizations House of Nobles and Royal Heirs, Ka O Ho‘ohuli, ‘Ohana Kailiwai-Ray, ‘Ohana Kapele, ‘Ohana Lindsey, ‘Ohana Medeiros, and Protect Keopuka ‘Ohana have priority for disposition of the cultural items described in this notice.

Claims for Disposition

Written claims for disposition of the human remains or cultural items in this notice must be sent to the appropriate official identified in this notice under ADDRESSES. If no claim for disposition is received by March 20, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 19, 2024. If competing claims for disposition are received, the USAG-HI PTA must determine the most appropriate claimant prior to disposition. Requests for joint disposition of the human remains or cultural items are considered a single request and not competing requests. The USAG-HI PTA is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: March 11, 2024.
Melanie O'Brien,
Manager, National NAGPRA Program.

[FR Doc. 2024-05852 Filed 3-19-24; 8:45 am]

BILLING CODE 4312-52-P